FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 15, 2013.

A. Federal Reserve Bank of Chicago (Colette A. Fried, Assistant Vice President) 230 South LaSalle Street, Chicago, Illinois 60690-1414:

1. E. David Locke, as Trustee of the E. David Locke Beneficiary Grantor Trust, Middleton, Wisconsin, individually, and as part of a group acting in concert with E. David Locke, E. David Locke, as Trustee of Ahren F. Locke 2004 Grantor Trust, E. David Locke, as Trustee of Brendan S. Locke 2004 Grantor Trust and E. David Locke, as Trustee of Meredith C. Locke 2004 Grantor Trust, all of Middleton, Wisconsin, to acquire voting shares of Northern Bankshares, Inc., and thereby indirectly acquire voting shares of McFarland State Bank, both in McFarland, Wisconsin.

B. Federal Reserve Bank of Minneapolis (Jacqueline G. King, Community Affairs Officer) 90 Hennepin Avenue, Minneapolis, Minnesota 55480-0291:

1. Jay Abdo, Bloomington, Minnesota; Melody Borth, Mankato, Minnesota; Jill Hansen, Paul Abdo, and James Abdo, all of Edina, Minnesota; Lynne Abdo, Norwalk, Connecticut; and John Abdo, Saint Paul, Minnesota; to retain voting shares of Abdo Investments, Inc., and thereby indirectly retain voting shares of Rivers Ridge Holding Company, both in Edina, Minnesota, and BankVista, Sartell, Minnesota.

Board of Governors of the Federal Reserve System, October 28, 2013.
Michael J. Lewandowski,
Associate Secretary of the Board.

[FR Doc. 2013-25936 Filed 10-30-13; 8:45 am]

BILLING CODE 6210-01-P